DEPARTMENT OF HEALTH AND HUMAN SERVICES

Substance Abuse and Mental Health Services Administration

Agency Information Collection Activities: Submission for OMB Review; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Project: Substance Abuse Prevention and Treatment (SAPT) Block Grant Uniform Application Guidance and Instructions FY 2011-2013 and Regulations (OMB No. 0930-0080)—Revision

Sections 1921 through 1935 of the Public Health Service Act (U.S.C. 300x-21 to 300x-35) provide for annual allotments to assist States to plan, carry out and evaluate activities to prevent and treat substance abuse and for related activities. Under the provisions of the law, States may receive allotments only after an application is submitted and approved by the Secretary, DHHS. For the Federal fiscal years (FY) 2011-FY 2013 Substance Abuse Prevention and Treatment (SAPT) Block Grant application cycles, SAMHSA will provide States with revised application guidance and instructions to implement changes made in accordance with recommendations from the National Association of State Alcohol and Drug Abuse Directors (NASADAD) and their member States in the revisions and clarification of data reporting requirements and instructions.

During negotiations with the States resulting in agreement on the National Outcome Measures (NOMs) for substance abuse treatment and prevention, SAMHSA pledged to the States to:

1. Reduce respondent burden;

2. Work with the States to improve performance management of the SAPT Block Grant;

3. Improve the availability, timeliness, and quality of data available to Federal, State, and provider administrators of block grant funded programs.

This revision of the Uniform Application and Regulation for the SAPT Block Grant takes additional steps toward implementing these commitments. SAMHSA, in consultation with NASADAD, has provided States the ability to reduce their application burden by consolidating the FY 2011-FY 2013 State Plan into a 3-year plan. With the exception of the projected annual budget form, States only would be expected to submit any proposed revisions to its approved three year plan but would otherwise not have to resubmit a State Plan during FY 2012 and FY 2013. Individual States may reduce their respondent burden further by selecting the option of using SAMHSA pre-populated tables for Section IVa and IVb. The data for these tables would be drawn from SAMHSA data sets known as Drug and Alcohol Services Information System (DASIS) Treatment Episode Data Set (TEDS) and National Survey on Drug Use and Health (NSDUH) by SAMHSA and provided to the States. In addition, the web-based Block Grant Application System now facilitates completion of the provider entity table through added pre-populated data items. The data for this table would be drawn from SAMHSA data set known as DASIS National Survey of Substance Abuse Treatment Services (N-SSATS) SAMHSA will continue to work with NASADAD and the States to assess the feasibility and usefulness of pre-populating additional sections of the application with data extracted from SAMHSA data sets to further reduce respondent burden.

SAMHSA continues to provide the States with the option of reporting on prevention expenditures utilizing the six primary prevention strategies or utilizing the Institute of Medicine classification of Universal, Selective or Indicated. SAMHSA has designed the State Prevention Framework State Incentive Grant (SPF SIG) competitive program and funded contracts in States without a SPF SIG to support data driven prevention planning by the Single State Agencies for Substance Abuse. States are expected to use the State level data collected with support from these programs in the planning in section II of the Uniform Application.

The Uniform Application has been modified to move needs assessment, planning narrative and future year budget forms into Section II, the FY 2011-FY 2013 Plan section.

In December 2004, SAMHSA and the States agreed on the goal of having all States reporting the NOMs measures as defined at the meeting by the end of a 3-year implementation period starting in FY 2005 and concluding at the end of FY 2007. By January 2006, supportive technical assistance on information technology design and payment for data submitted became available by the State Outcomes Measurement and Management System (SOMMS) program. States who have participated in the SOMMS/NOMs subcontracts may choose to have their data pre-populated which would significantly reduce their reporting burden for this application. During the subsequent three years, SAMHSA in partnership with the States and all other SAPT Block Grant stakeholders have continued to work towards improving standards for analyzing and responding to the results of NOMs data appropriate to each level of block grant funded administration including Federal, State, and Provider roles and responsibilities.

SAMHSA realigned resources to address the need for technical assistance in information technology (IT) and software purchasing to implement and maintain NOMs data standards. This technical assistance first became available in September 2006 and IT support continues.

Revisions to the previously-approved Uniform Application resulting from such stakeholder input reflect the following changes: (1) Section I, Form 2, “Table of Contents,” was revised to appropriately enumerate the specific items within each section; (2) In Section II, the former single year “Intended Use Plan” is aggregated into a “Three Year State Plan” to reduce the States' annual plan reporting burden. The first “Three Year Plan” will cover FYs 2011-2013. In the next two subsequent years, only revisions or updates to the 3-year plan will be required in the States' FY 2012 and FY 2013 Uniform Applications. Planned expenditures of each Federal Fiscal Year award will still be collected annually; (3) In Section II, the Form formerly specified as Form 12 has been removed; (4) In Section III, Narratives covering the Federal requirements, financial expenditure reports and services utilization reports are consolidated into the “Annual Report Section”; (5) In Section IV subparts IVa and IVb, Treatment and Prevention Performance Reporting Forms are maintained and are to be completed annually.

The total annual reporting burden estimate is shown below:

FY 2011
| Number of respondents | Responses per respondent | Number of hours per response | Total hours
Sections I-III—States and Territories | 60 | 1 | *480 | 28,800
Section IV-A | 60 | 1 | 40 | 2,400
Section IV-B | 60 | 1 | 42.75 | 2,565
Recordkeeping | 60 | 1 | 16 | 960
Total | 60 |  |  | 34,725
* (Additional 10 hours per completion of Section II per State due to addition of FYs 2012 and 2013 in “Three Year Plan.”)

FY 2012 and FY 2013
[Due to the reduction in section II]
| Number of respondents | Responses per respondent | Number of hours per response | Total hours
Sections I-III—States and Territories | 60 | 1 | 440 | 26,400
Section IVa | 60 | 1 | 40 | 2,400
Section IVb | 60 | 1 | 42.75 | 2,565
Recordkeeping | 60 | 1 | 16 | 960
Total | 60 |  |  | 32,325
* (Reduction of approximately 40 hours per respondent due to reductions in response burden for Section II, “Three Year Plan.”)

SAMHSA received comments from ten separate State agencies representing ten States.

In response to State comments, (1) SAMHSA clarified all form labeling to provide a clear reference to the form number in the new application as well as a reference to the former form number used in previous applications. In addition, form references in the instructions also provide reference to the former number of the form; (2) SAMHSA also provided similar references to narrative requirements that had been previously contained in separate attachments labeling these sections in order to facilitate respondent understanding where this data had been collected in previous applications; (3) In Section II, instructions for the new form (Form 7) intended to summarize State planning priorities, was modified to allow State to identify up to twelve priorities as opposed to requiring twelve to be identified; (4) Instructions were added to the section IVb; Prevention Forms P12a-P15, to facilitate understanding of the time periods for which data were being reported on these forms.

At least half of the respondents, albeit a small minority of the overall set of grantees, objected to the timing of these changes indicating that economic conditions and staffing affect their ability to undertake such changes. SAMHSA contends that the transition to a three year plan will reduce burden by an estimated total across all 60 applicants of about 800 hours and requires only an additional two pages of narrative in the first year of the three-year Plan. The addition of Form 7 requiring articulation of up to twelve State priorities is offset by deleting the previous requirement to project future period utilization data (Form 12) and its instructions entirely.

Average Annual Total Burden is projected to be 33,125 or a decrease of about 800 hours.

Written comments and recommendations concerning the proposed information collection should be sent by June 18, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: May 12, 2010.
Elaine Parry,
Director, Office of Program Services.

[FR Doc. 2010-11962 Filed 5-18-10; 8:45 am]

BILLING CODE 4162-20-P